DEPARTMENT OF AGRICULTURE

Animal and Plant Health Inspection Service

[Docket No. APHIS-2014-0040]

Notice of Request for Approval of an Information Collection; U.S. Origin Health Certificate Template

AGENCY: Animal and Plant Health Inspection Service, USDA.

ACTION: New information collection; comment request.

SUMMARY: In accordance with the Paperwork Reduction Act of 1995, this notice announces the Animal and Plant Health Inspection Service's intention to request approval of a new information collection for a U.S. origin health certificate template.

DATES: We will consider all comments that we receive on or before August 18, 2014.

ADDRESSES: You may submit comments by either of the following methods:

• Federal eRulemaking Portal: Go to http://www.regulations.gov/#!docketDetail;D=APHIS-2014-0040.

• Postal Mail/Commercial Delivery: Send your comment to Docket No. APHIS-2014-0040, Regulatory Analysis and Development, PPD, APHIS, Station 3A-03.8, 4700 River Road Unit 118, Riverdale, MD 20737-1238.

Supporting documents and any comments we receive on this docket may be viewed at http://www.regulations.gov/#!docketDetail;D=APHIS-2014-0040 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the U.S. origin health certificate template, contact Dr. Courtney Bronner Williams, Senior Staff Veterinarian, National Import Export Services, VS, APHIS, 4700 River Road Unit 39, Riverdale, MD 20737; (301) 851-3357. For copies of more detailed information on the information collection, contact Mrs. Celeste Sickles, APHIS' Information Collection Coordinator, at (301) 851-2908.

SUPPLEMENTARY INFORMATION:

Title: U.S. Origin Health Certificate Template.

OMB Control Number: 0579-XXXX.

Type of Request: Approval of a new information collection.

Abstract: Under the Animal Health Protection Act (7 U.S.C. 8301 et seq.), the Animal and Plant Health Inspection Service (APHIS) of the U.S. Department of Agriculture has the authority to detect, control, or eradicate pests or diseases of livestock and poultry. APHIS may also prohibit or restrict the importation or export of any animal to prevent the spread of livestock or poultry pests or diseases.

The export of agricultural commodities, including animals and animal products, is a major business in the United States and contributes to a favorable balance of trade. Within APHIS, Veterinary Services (VS) maintains information regarding the import health requirements of other countries for animals and animal products exported from the United States, as most countries require a certification that our animals are free from specific diseases and show no clinical evidence of disease. Knowledge of these import health requirements allows exporters to determine whether their animals meet the health requirements of the destination countries and promotes disease prevention, which is the most effective method for maintaining a healthy animal population and enhancing our country's ability to compete in the world market of animal and animal product trade.

Exporters currently use several forms approved by the Office of Management and Budget (OMB) to certify that their animals meet the certification requirements of other countries. However, to expedite the process, VS has developed an adaptable electronic export health certificate template for use by exporters and trading partners for the export certification of animals. This new template has the potential to replace other paper-based forms associated with the export certification of animals.

We are asking OMB to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5 hours per response.

Respondents: Live animal owners and exporters, accredited veterinarians, and animal health officials of the countries of destination.

Estimated annual number of respondents: 1,849.

Estimated annual number of responses per respondent: 24.

Estimated annual number of responses: 44,376.

Estimated total annual burden on respondents: 22,188 hours. (Due to averaging, the total annual burden hours may not equal the product of the annual number of responses multiplied by the reporting burden per response.)

All responses to this notice will be summarized and included in the request for OMB approval. All comments will also become a matter of public record.

Done in Washington, DC, this 11th day of June 2014.
Kevin Shea,
Administrator, Animal and Plant Health Inspection Service.

[FR Doc. 2014-14117 Filed 6-16-14; 8:45 am]

BILLING CODE 3410-34-P